DEPARTMENT OF COMMERCE

National Oceanic and Atmospheric Administration

50 CFR Part 600

[I.D. 062102B]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has determined that an application for EFPs contains all of the required information and warrants further consideration. The Regional Administrator is considering the impacts of the activities to be authorized under the EFPs with respect to the Northeast Multispecies Fishery Management Plan (Multispecies FMP) and the Fishery Management Plan for Atlantic Tunas, Swordfish and Sharks (Highly Migratory Species (HMS) FMP). However, further review and consultation may be necessary before a final determination is made to issue EFPs. Therefore, NMFS announces that the Regional Administrator proposes to issue EFPs in response to an application submitted by the East Coast Tuna Association that would allow five purse seine vessels to fish for giant Atlantic bluefin tuna (Thunnus thynnus) in Northeast multispecies year-round Closed Area I, where use of purse seine gear is currently prohibited. The purpose of the study is to collect information regarding bycatch of—and interactions of purse seine gear with —groundfish species, other species, and marine mammals, and to record contact with the ocean bottom or with any Essential Fish Habitat (EFH). The results of this EFP would allow NMFS and the New England Fishery Management Council (Council) to evaluate the feasibility of allowing purse seine gear in Closed Area I as an exempted gear on a permanent basis.

DATES: Comments on this action must be received at the appropriate address or fax number (see ADDRESSES) on or before July 24, 2002.

ADDRESSES: Written comments should be sent to Patricia A. Kurkul, Regional Administrator, NMFS, Northeast Regional Office, 1 Blackburn Drive, Gloucester, MA 01930. Mark the outside of the envelope “Comments on EFP Proposal.” Comments may also be sent via fax to (978) 281-9135. Comments will not be accepted if submitted via e-mail or the Internet.

Copies of the Environmental Assessment and the Regulatory Impact Review (EA/RIR) are available from the Northeast Regional Office at the same address.

FOR FURTHER INFORMATION CONTACT: Allison Ferreira, Fishery Policy Analyst, phone: 978-281-9103, fax: 978-281-9135, email: allison.ferreira@noaa.gov

SUPPLEMENTARY INFORMATION:

Background

The Georges Bank and Southern New England (GB/SNE) multispecies year-round closed areas were established under the Multispecies FMP to provide protection to concentrations of regulated multispecies, particularly cod, haddock, and yellowtail flounder. Consequently, all fishing in these year-round closed areas was prohibited, with a few exceptions. The only exceptions allowing access to the closed areas were fishing activities known to have a very low incidence of multispecies bycatch. For example, pelagic midwater trawl gear was determined to have a negligible catch of regulated multispecies because the gear fishes well off the ocean floor. As a result, it is an allowed gear in the GB/SNE multispecies closed areas.

Purse seine gear is typically used to target pelagic species such as herring, mackerel, and tuna that are concentrated at or near the surface of the ocean. This type of gear is not designed or intended to fish for species at or near the ocean floor, and is typically considered to have very little interaction with bottom-dwelling species such as groundfish. Observer data from the 1996 tuna purse seine fishery, the last year the fishery carried full-time observers, documented a small catch of regulated groundfish, other demersal species, and bottom debris (i.e., sponges and empty shells) in 20 out of 39 observed sets. Out of these 20 sets, only 4 occurred inside Closed Area I, in depths ranging from 28 to 35 fathoms (fm). In 2000, EFPs were issued to four purse seine vessels to collect information on the interaction between purse seine gear and demersal species and their habitat, specifically in Closed Area I. Data from the five observed trips in Closed Area I from the 2000 tuna purse seine experimental fishery did not show any bycatch of demersal species. These sets occurred in depths ranging from 55 to 86 fm. In 2001, EFPs were issued to all five vessels authorized to fish for bluefin tuna with purse seine gear. During this experiment, four trips were made into Closed Area I. On a single trip, one of the participating vessels made three sets inside Closed Area I in depths ranging from 40 to 60 fm. Bluefin tuna were caught on only one of these three sets, totaling 82 bluefin tuna for the trip and for the 2001 experimental fishery as a whole.

During the 2000 experimental fishery, participating vessels were required to fish in locations where the water depth was greater than 30 fathoms, or where the depth of the water was greater than the depth of the net at its deepest point, or modify the net in use by this vessel so that its depth was less than the depth of the water in order to avoid adverse impacts to EFH. For the 2001 experimental fishery, the applicant indicated that the gear could be fished in such a way that it would not come in contact with the bottom, regardless of the depth of the net or water. The applicant also stated that due to the currents and tides in Closed Area I, the net would never extend below the sea surface to the full extent of its height. Therefore, the applicant requested that the depth restrictions implemented for the 2000 experimental fishery be removed, stating that the incentive to protect the purse seine gear from interactions with the ocean floor would result in careful attention to keep the gear off the bottom. In light of the information provided by the applicant, the depth restrictions of the 2000 experimental fishery were waived for the 2001 fishery. Because the results of the 2001 fishery indicate that there were no interactions between the gear and bottom habitat, NMFS does not intend to implement depth requirements for the 2002 experimental fishery.

Due to lingering questions concerning the degree of interactions between purse seine gear used in this fishery and its interactions with regulated groundfish species, a third experimental fishery has been requested. The Council is considering an exemption for tuna purse seine gear within all groundfish closed areas as part of Amendment 13 to the Multispecies FMP. Information collected through this experimental fishery would be used in development of Amendment 13.

Proposed EFP

The proposed EFP would exempt five purse seine vessels fishing for giant Atlantic bluefin tuna under 50 CFR part 635 from the gear restrictions of Closed Area I, as described at 50 CFR 648.81(a). Similar to the 2000 and 2001 purse seine experimental fisheries in Closed Area I, no more than five vessels would be authorized to participate. The experimental fishery would begin on August 15, 2002, and continue until the five vessels have achieved their individual fishing quotas, or the end of the 2002 calendar year, whichever occurs first. Although these individual quotas may be taken through the end of the 2002 fishing year (December 31, 2002), they are typically taken by the middle of October. Because the bluefin tuna fishery takes place throughout the waters off New England, and the concentrations of fish often move between areas, it is likely that the fishery would take place within Closed Area I for only a few weeks.

Unlike the 2000 and 2001 experimental fisheries, observers will not be required for the proposed 2002 experimental fishery. As a result, the vessel captains will be required to collect information on bottom depth, depth of net, mesh size used, location of set, information on any bycatch species, any interactions between the net and the bottom, and any incidental take of marine mammals or protected species. Any multispecies that are captured during fishing activities will be required to be discarded.

Environmental Assessments (EAs) that analyzed the impacts of the experimental tuna purse seine fishery on the human environment were prepared for the 2000 and 2001 experimental fisheries. These EAs concluded that the activities that were conducted under the EFP are consistent with the goals and objectives of the Multispecies FMP, are consistent with the HMS FMP, and will have no significant environmental impacts. The EAs also considered the impacts of the EFP activities on EFH, marine mammals, and protected species and found that the experimental tuna purse seine fishery will have no significant impact to EFH, marine mammals, or protected species. A EA was prepared for the 2001 experimental fishery and a Supplement to the EA has been prepared for the 2002 experimental fishery. This supplement incorporates the results of the 2001 experimental fishery, discusses minor changes to the experimental fishery for 2002, addresses the cumulative impacts of the proposed 2002 experimental fishery, and provides a revised Finding of No Significant Impact Statement.

EFPs would be issued to the five participating vessels to exempt them from the restrictions of Closed Area I of the Multispecies FMP.

Regulations under the Magnuson-Stevens Fishery Conservation and Management Act require publication of this notification to provide interested parties the opportunity to comment on applications for proposed EFPs.

Based on the results of this EFP, this action may lead to future rulemaking.

Authority: 16 U.S.C. 1801 et seq.

Dated: July 2, 2002.
Virginia M. Fay,
Acting Director, Office of Sustainable Fisheries, National Marine Fisheries Service.

[FR Doc. 02-17155 Filed 7-8-02; 8:45 am]

BILLING CODE 3510-22-S